DEPARTMENT OF COMMERCE

International Trade Administration

[A-570-028]

Antidumping Duty Order on Hydrofluorocarbon Blends From the People's Republic of China: Final Affirmative Determination of Circumvention With Respect to R-410A and R-407C From Malaysia

AGENCY: Enforcement and Compliance, International Trade Administration, Department of Commerce.

SUMMARY: The U.S. Department of Commerce (Commerce) determines that imports of R-410A and R-407C, completed in Malaysia using the People's Republic of China (China)-origin hydrofluorocarbon (HFC) components, and exported from Malaysia, are circumventing the antidumping duty (AD) order on HFC blends from China.

DATES: Applicable June 12, 2024.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On August 19, 2016, Commerce published in the Federal Register the AD order on HFC blends from China.¹ On July 7, 2023, Commerce initiated a country-wide circumvention inquiry pursuant to section 781(b) of the Tariff Act of 1930, as amended (the Act), and 19 CFR 351.226(d)(1)(ii) to determine whether imports of R-410A and R-407C, completed in Malaysia using HFC components manufactured in China, are circumventing the Order and, accordingly, should be covered by the scope of the Order.² On December 11, 2023, Commerce published in the Federal Register its Preliminary Determination that imports of R-410A and R-407C completed in Malaysia using China-origin HFC components and subsequently exported from Malaysia to the United States are circumventing the Order.³

¹ See Hydrofluorocarbon Blends from the People's Republic of China: Antidumping Duty Order, 81 FR 55436 (August 19, 2016) (Order).

² See Hydrofluorocarbon Blends from the People's Republic of China: Initiation of Circumvention Inquiries on the Antidumping Duty Order, 88 FR 43275 (July 7, 2023) (Initiation Notice).

³ See Antidumping Duty Order on Hydrofluorocarbon Blends from the People's Republic of China: Preliminary Affirmative Determination of Circumvention With Respect to R-410A and R-407C From Malaysia, 88 FR 85876 (December 11, 2023) (Preliminary Determination), and accompanying Preliminary Decision Memorandum (PDM).

For a summary of events that occurred since the Preliminary Determination, as well as a full discussion of the issues raised by parties for consideration in the final determination, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Decision Memorandum for the Circumvention Inquiry of the Antidumping Duty Order on Hydrofluorocarbon Blends from the People's Republic of China with Respect to Imports of R-410A and R-407C from Malaysia,” dated concurrently with, and hereby adopted by, this notice (Issues and Decision Memorandum).

Scope of the Order

The merchandise covered by the Order is certain HFC blends. For a complete description of the scope of the Order, see the Issues and Decision Memorandum.

Merchandise Subject to the Circumvention Inquiry

This circumvention inquiry covers HFC blends R-410A and R-407C, completed in Malaysia using China-origin HFC components and subsequently exported from Malaysia to the United States (inquiry merchandise).

Methodology

Commerce is conducting this circumvention inquiry in accordance with section 781(b) of the Act, and 19 CFR 351.226. See Preliminary Determination PDM for a full description of the methodology.⁵ We have continued to apply this methodology, without exception, and incorporate by reference this description of the methodology, for our final determination.

⁵ See Preliminary Determination PDM at 3-13.

Analysis of Comments Received

All issues raised in this inquiry are addressed in the Issues and Decision Memorandum. A list of the issues raised is attached to this notice in the appendix. Based on our analysis of the comments received from the petitioner, we made the following change to the Preliminary Determination: we determine to apply retroactive suspension of liquidation to respondent Juara Teguh Resources PLT (Juara), as well as on a country-wide basis, effective November 4, 2021.

Final Circumvention Determination

We determine that imports of R-410A and R-407C completed in Malaysia by Juara, using China-origin HFC components that are subsequently exported from Malaysia to the United States, are circumventing the Order. As a result, in accordance with section 781(b) of the Act, we determine that this merchandise should be included within the scope of the Order. For a detailed explanation of our determination with respect to Juara, see Preliminary Determination PDM, the Issues and Decision Memorandum, and the “Use of Adverse Facts Available” section below.

We also determine that imports of R-410A and R-407C completed in Malaysia using China-origin HFC components, that are subsequently exported from Malaysia to the United States, are circumventing the Order on a country-wide basis. As a result, in accordance with section 781(b) of the Act, we determine that this merchandise should be included within the scope of the Order; see the “Suspension of Liquidation and Cash Deposit Requirements” section, below, for details regarding suspension of liquidation and cash deposit requirements.

Use of Adverse Facts Available (AFA)

In this inquiry, Commerce continues to find that necessary information is not available on the record with respect to Juara within the meaning of section 776(a)(1) of the Act, and that Juara withheld requested information, failed to provide requested information by the deadline or in the form or manner requested, and significantly impeded the inquiry pursuant to sections 776(a)(1), (A), (B), and (C) of the Act. Moreover, Commerce continues to find that this company failed to cooperate by not acting to the best of its ability to provide the requested information pursuant to section 776(b)(1) of the Act. Consequently, we continue to use adverse inferences with respect to Juara in selecting from among the facts otherwise available on the record, pursuant to sections 776(a) and (b) of the Act, for the reasons discussed in the Preliminary Determination and the Issues and Decision Memorandum.⁶ Based on AFA, we determine that Juara exported inquiry merchandise and that U.S. entries of that merchandise are circumventing the Order. Interested parties that wish to have their suspended entries, if any, reviewed should request an administrative review of the relevant suspended entries during the next anniversary month of the Order (i.e., August 2024).⁷

⁶ See Preliminary Determination PDM; see also Issues and Decision Memorandum at Comment 1.

⁷ See 19 CFR 351.213(b).

Suspension of Liquidation and Cash Deposit Requirements

Based on the affirmative country-wide determination of circumvention for Malaysia, in accordance with 19 CFR 351.226(l)(3)(iii)(A), we will direct U.S. Customs and Border Protection (CBP) to suspend liquidation of any unliquidated entries of subject merchandise from Malaysia entered, or withdrawn from warehouse for consumption, prior to the date of publication of the notice of initiation of the inquiry, up to, and including, November 4, 2021,⁸ which is a departure from our standard practice of applying the date specified in 19 CFR 351.226(l)(3)(ii) (i.e., the date of publication of the initiation notice).⁹ CBP shall require cash deposits in accordance with the rate established for the China-wide entity (i.e. 216.37 percent).¹⁰

⁸ November 4, 2021, was the date Commerce's circumvention regulations became effective. See Regulations To Improve Administration and Enforcement of Antidumping and Countervailing Duty Laws, 86 FR 52300 (September 20, 2021).

⁹ See Issues and Decision Memorandum at Comment 1.

¹⁰ See Order, 81 FR at 55438.

Commerce has established the following third-country case number for Malaysia in the Automated Commercial Environment (ACE) for such entries: A-557-300-000. For Juara, Commerce will direct CBP, for all entries of R-410A or R-407C from Malaysia produced or exported by Juara, to suspend liquidation and require a cash deposit at the AD cash deposit rate established for the China-wide entity (i.e., 216.37 percent), under this third-country case number, A-557-300-000.

R-410A and R-407C produced in Malaysia that is not from China-origin HFC blends is not subject to this inquiry. Therefore, cash deposits are not required for such merchandise under the Order. These suspension of liquidation instructions will remain in effect until further notice.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. An interested party who would like Commerce to conduct an administrative review should wait until Commerce announces via the Federal Register the next opportunity during the anniversary month of the publication of the Order to submit such requests. The anniversary month for this Order is August.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

This determination is issued and published in accordance with section 781(b) of the Act and 19 CFR 351.226(g)(2).

Dated: June 5, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Merchandise Subject to the Circumvention Inquiry

V. Period of Circumvention Inquiry

VI. Changes from the Preliminary Determination

VII. Discussion of the Issues

Comment 1: Retroactive Suspension of Liquidation and Cash Deposit Requirement

Comment 2: Certification Requirement

VIII. Recommendation

[FR Doc. 2024-12840 Filed 6-11-24; 8:45 am]

BILLING CODE 3510-DS-P